DEPARTMENT OF TRANSPORTATION

Federal Motor Carrier Safety Administration

[Docket No. FMCSA-2018-0333]

Agency Information Collection Activities; Renewal of a Currently-Approved Information Collection: Motor Carrier Identification Report

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. FMCSA requests renewal of an ICR titled, “Motor Carrier Identification Report,” which is used to identify FMCSA regulated entities, help prioritize the agency's activities, aid in assessing the safety outcomes of those activities, and for statistical purposes. On April 26, 2016, OMB approved a revision to this collection. As a result of the revision, which is continued in this renewal, all entities needing to file registration and biennial update information to FMCSA will use Form MCS-150 or MCS-150B to submit their information. Form MCS-150 or MCS-150B will also be used by a the small number of Mexico-domiciled carriers that seek authority to operate beyond the United States municipalities on the United States-Mexico border and their commercial zones. This ICR is necessary to ensure regulated entities are registered with the DOT.

DATES: Please send your comments by May 24, 2019. OMB must receive your comments by this date in order to act quickly on the ICR.

ADDRESSES: All comments should reference Federal Docket Management System (FDMS) Docket Number FMCSA-2018-0333. Interested persons are invited to submit written comments on the proposed information collection to the Office of Information and Regulatory Affairs, Office of Management and Budget. Comments should be addressed to the attention of the Desk Officer, Department of Transportation/Federal Motor Carrier Safety Administration, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Mr. Jeffrey Secrist, Office of Registration and Safety Information, Department of Transportation, FMCSA, West Building 6th Floor, 1200 New Jersey Avenue SE, Washington, DC 20590. Telephone: 202-385-2367; email Jeffrey.secrist@dot.gov. Office hours are from 9 a.m. to 5 p.m., Monday through Friday, except Federal Holidays.

SUPPLEMENTARY INFORMATION:

Title: Motor Carrier Identification Report.

OMB Control Number: 2126-0013.

Type of Request: Renewal of a currently-approved collection.

Respondents: Motor carriers, freight forwarders, intermodal equipment providers, brokers, motor carriers with hazardous materials safety permit, cargo tank facilities and Mexican motor carriers.

Estimated Number of Respondents: 1,602,511 respondents [1,596,121 respondents for IC-1 + 3,811 respondents for IC-2 + 2,579 respondents for IC-3].

Estimated Time per Response: 20 minutes for new filings and 7.5 minutes for biennial updates and changes to complete the Form MCS-150.

Expiration Date: April 30, 2019.

Frequency of Response: On occasion and biennially.

Estimated Total Annual Burden: 119,878 hours [119,071 hours for IC-1 + 278 hours for IC-2 + 529 hours for IC-3].

Background: Title 49, United States Code Section 504(b)(2) provides the Secretary of Transportation (Secretary) with authority to require carriers, lessors, associations, or classes of these entities to file annual, periodic, and special reports containing answers to questions asked by the Secretary. The Secretary may also prescribe the form of records required to be prepared or compiled and the time period during which records must be preserved (See § 504(b)(1) and (d)). FMCSA will use this data to administer its safety programs using a database of entities that are subject to its regulations. This database necessitates that these entities notify FMCSA of their existence. For example, under 49 CFR 390.19(a), FMCSA requires all motor carriers beginning operations to file a Form MCS-150 titled, “Motor Carrier Identification Report,” or MCS-150B titled, “Combined Motor Carrier Identification Report and HM Permit Applications.” This report is filed by all motor carriers conducting operations in interstate, intrastate transporting hazardous materials or international commerce before beginning operations. It asks the respondent to provide the name of the business entity that owns and controls the motor carrier operation; address and telephone of principal place of business; assigned identification number(s), type of operation, types of cargo usually transported; number of vehicles owned, term leased and trip leased; driver information; and certification statement signed by an individual authorized to sign documents on behalf of the business entity.

Existing applicants will use the MCS-150 or MCS-150B to update their information in the Motor Carrier Management Information System. Applicants filing for the first time will be required to file on-line. Form MCS-150 or MCS-150B will be used for Mexico-domiciled carriers that seek authority to operate beyond the United States municipalities on the United States-Mexico border and their commercial zones. The information collected from the respondents is readily available to the public. This ICR captures the burden of continued use of the MCS-150 or MCS-150B for motor carriers updating their registration information and for the registration of Mexico-domiciled carriers.

Summary of Changes

The MCS-150 is being revised. The hazardous material declarations, Class 3A, Class 3B, and Div. 2.2 (Ammonia), are being removed from the form. They are obsolete and do not require new or existing applicants to identify those declarations when applying for a USDOT number as a hazardous materials motor carrier.

The remaining hazardous materials entries on the forms and their respective instructions are being redesignated alphabetically to reflect the removal of the Class 3A, Class 3B, and Div. 2.2 (Ammonia) entries.

In the Filing Options section of the instructions for the forms, the Agency name is corrected.

In the hazardous materials list in the instructions for the forms, the entry for Combustible Liquid is revised to correct the 49 CFR reference.

The instructions for the forms are being revised to clarify the definitions of “Intrastate Hazardous Materials Carrier” and “Intrastate Non-Hazardous Materials Carrier.”

Public Comments Invited: You are asked to comment on any aspect of this information collection, including: (1) Whether the proposed collection is necessary for the FMCSA to perform its functions; (2) the accuracy of the estimated burden; (3) ways for the FMCSA to enhance the quality, usefulness, and clarity of the collected information; and (4) ways that the burden could be minimized without reducing the quality of the collected information.

Issued under the authority delegated in 49 CFR 1.87.
G. Kelly Regal,
Associate Administrator for Office of Research and Information Technology.

[FR Doc. 2019-08264 Filed 4-23-19; 8:45 am]

BILLING CODE 4910-EX-P